DEPARTMENT OF THE INTERIOR

National Park Service

Fall 2010 Meeting of the National Preservation Technology and Training Board

AGENCY: National Park Service, U.S. Department of the Interior.

ACTION: National Preservation Technology and Training Board—National Center for Preservation Technology and Training: Meeting Notice.

SUMMARY: Notice is hereby given in accordance with the Federal Advisory Committee Act (FACA) (5 U.S.C. Appendix (1988)), that the National Preservation Technology and Training Board (NPTT Board) of the National Center for Preservation Technology and Training, National Park Service, will meet on Tuesday and Wednesday, October 26-27, 2010 in Austin, Texas.

The NPTT Board was established by Congress to provide leadership, policy advice, and professional oversight to the National Center for Preservation Technology and Training (NCPTT) in compliance with Section 404 of the National Historic Preservation Act of 1966, as amended (16 U.S.C. 470x-2(e)).

The NPTT Board will meet at the Embassy Suites Hotel Austin Downtown/Town Lake at 300 South Congress Avenue, Austin, TX 78704— telephone (512) 469-9000. The meeting will run from 9 a.m. to 5 p.m. on October 26 and from 9 a.m. to 12 p.m. on October 27.

The NPTT Board's meeting agenda will include: Review and comment on NCPTT FY2010 accomplishments and operational priorities for FY2011; FY2011 National Center budget and initiatives; the National Center's Sustainability and Preservation initiative; “greening” of historic buildings; funding for research; and preservation training programs.

The NPTT Board meeting is open to the public. Facilities and space for accommodating members of the public are limited; however, guests will be accommodated on a first-come, first-served basis. Any member of the public may file a written statement concerning any of the matters to be discussed by the NPTT Board.

DATES: The meeting dates are: October 26, 2010, 9 a.m. to 5 p.m. and October 27, 2010, 9 a.m. to 12 p.m., Austin, TX.

ADDRESSES: The meeting location is: Suites Hotel Austin Downtown/Town Lake at 300 South Congress Avenue, Austin, TX 78704.

SUPPLEMENTARY INFORMATION: Anyone interested may request more information concerning this meeting from, or submit written statements to: Mr. Kirk A. Cordell, Executive Director, National Center for Preservation Technology and Training, National Park Service, U.S. Department of the Interior, 645 University Parkway, Natchitoches, LA 71457—telephone (318) 356-7444. In addition to U.S. Mail or commercial delivery, written comments may be sent by fax to Mr. Cordell at (318) 356-9119. Before including your address, phone number, e-mail address, or other personal identifying information in your comment, you should be aware that your entire comment—including your personal identifying information—may be made publicly available at any time. While you can ask us in your comment to withhold your personal identifying information from public review, we cannot guarantee that we will be able to do so.

Minutes of the meeting will be available for public inspection no later than 90 days after the meeting at the office of the Executive Director, National Center for Preservation Technology and Training, National Park Service, U.S. Department of the Interior, 645 University Parkway, Natchitoches, LA 71457—telephone (318) 356-7444.

Dated: September 14, 2010.
Kirk A. Cordell,
Executive Director, National Center for Preservation Technology and Training, National Park Service.

[FR Doc. 2010-25831 Filed 10-13-10; 8:45 am]

BILLING CODE 4312-52-P